DEPARTMENT OF LABOR

Employment and Training Administration

Solicitation for Grant Applications (SGA) Workforce Investment Act of 1998; Minority Colleges and Universities Workforce Partnerships and Training Strategies To Address Skill Shortages Demonstration Program

AGENCY: Employment and Training Administration, Labor.

ACTION: Notice of availability of funds and Solicitation for Grant Applications (SGA).

This notice contains all of the necessary information and forms needed to apply for grant funding.

SUMMARY: The U.S. Department of Labor (DOL), Employment and Training Administration (ETA) announces a competitive demonstration solicitation for grant applications (SGA) to respond to employers' identified skill shortages through the establishment or strengthening of regional consortia. Grants will be made to successful applicants representing minority colleges and universities which provide evidence of being positioned to plan and implement a successful strategy to respond to shortages of workers seeking employment with skills needed by specific employers in a regional labor market (including typical local commuting area). Successful applicants must also initiate a skill training design for preparing eligible dislocated workers, incumbent workers and new entrants into the workforce that will alleviate skill shortages within the region which the applicant represents and provide the necessary skill sets to those seeking new employment or reemployment. DOL will convene an informational session in early August to share information with eligible applicants and other interested parties. Refer to Pre-Application Information Session.

The funding for this program will be the demonstration authority of the Secretary as appropriated for Title I, Section 171(b) (1) and (2) of the Workforce Investment Act of 1998 and administered in accordance with 29 CFR parts 95 and 97, as applicable. Applicants are encouraged to become familiar with the provisions of the Workforce Investment Act of 1998 (WIA). With the implementation of WIA which became effective July 1, 2000, and for the next few years, it is anticipated that even greater emphasis will be placed on regional and unified planning and other initiatives to accommodate or address regional workforce development concerns. It is expected that the consortia established or strengthened as a result of the award of these demonstration grant funds will actively collaborate with the emerging structures of WIA implementation.

The Department encourages interested applicants to consult with other on-going programs such as grantees funded by the June 1998 $7.7 million dislocated worker technology demonstration, June 1999 $10 million manufacturing technology demonstration program and the June 2000 $11.2 million skill shortages, partnership training/system building demonstration program. Information regarding these demonstrations may be found at http://www.doleta.gov.

Two types of demonstration grants to address skill shortages will be available under this solicitation—(1) Three to nine partnership building grants of up to $750,000 and (2) up to three training grants in the approximate range of $1.5 to $2 million. Each type of grant (partnership building and skill shortage training) will require coordination and collaboration with the local workforce investment system.

In addition, experiences gained through current regional initiatives may provide insight into developing a regional consortia approach to addressing workforce development needs and strategies for partnership building grants as well as training grants. The partnership building grants funded as a result of this SGA to address skill shortages will also support assessment of community employment needs (community audits), designing or adapting training curricula based upon specific employer needs, and limited operational testing of a training design. Partnerships and systems for responding to skill shortages developed as a part of this demonstration will be expected to continue, and indeed improve and expand, after the conclusion of this initiative. One objective of this demonstration initiative is to assist minority colleges and universities in developing and sustaining an active partnership with local workforce investment boards and chief elected officials in the addressing strategies and training programs that respond effectively to area employers' needs for skilled workers. Of particular interest to the Department are broad-based strategies that address such issues as shortages in technology, health care, and H-1B visa-identified occupations.

Consortia developed in response to this solicitation could also be appropriate applicants to apply for skill training grants established under the American Competitiveness and Workforce Improvement Act of 1998 (ACWIA). Potential grants under the ACWIA authority would provide additional funding to address the skill shortages identified under this grant, and could utilize the information gained from pilot testing the training curriculum to ensure an effective skill training delivery approach. Eligible applicants for the ACWIA grants are limited by statute to local Workforce Investment Boards (WIBs) under Section 117 of the Workforce Investment Act of 1998 (WIA), and consortia of WIBs. For this reason, WIB participation in activities conducted under the Partnership Building grants will be a requirement to show satisfactory progress toward achieving the objectives of this demonstration program for receipt of Phase II Implementation funding.

Training grants funded under this SGA will test the ability of minority colleges and universities to partner with the local workforce investment system with employers, training providers and others to train participants in the skills necessary to obtain work in occupations and industries experiencing shortages of such workers. In order to assure that the training provided under the grant is consistent with workforce development plans for the local area and to prepare the local area to possibly sustain the training activity by applying for a skill training grant under the American Competitiveness and Workforce Improvement Act of 1998 (ACWIA), the local Workforce Investment Board(s) must be an active partner in planning for the training including the determination that the proposed training is consistent with employer-identified skill needs in the community. The application must contain a statement from the local Workforce Investment Board(s) explaining its role as the policy decision-making entities for the targeted geographic area(s) as well as the role its One Stop operator(s) will play in the planned service delivery activities.

DATES: The closing date for receipt of the application is Friday, September 22, 2000. Applications must be received by 4 p.m. eastern standard time. No exceptions to the mailing and hand-delivery conditions set forth in this notice will be granted. Applications that do not meet the conditions set forth in this notice will not be considered. Telefacsimile (FAX) applications will not be honored.

ADDRESSES: Applications must be mailed or hand-delivered to: U.S. Department of Labor, Employment and Training Administration, Division of Federal Assistance, Attention: Mamie D. Williams, Reference: SGA/DFA 00-109; 200 Constitution Avenue, N.W., Room S-4203; Washington, DC 20210.

Hand Delivered Proposals. If proposals are hand delivered, they must be received at the designated address by 4:00 p.m., Eastern Standard Time on Friday, September 22, 2000. All overnight mail will be considered to be hand delivered and must be received at the designated place by the specified closing date and time. Telegraphed, e-mailed and/or faxed proposals will not be honored. Failure to adhere to the above instructions will be a basis for a determination of nonresponsiveness.

Late Proposals. A proposal received at the designated office after the exact time specified for receipt will not be considered unless it is received before the award is made and it:

• Was sent by U.S. Postal Service registered or certified mail not later than the fifth (5th) calendar day before the closing date specified for receipt of applications (e.g., an offer submitted in response to a solicitation requiring receipt of applications by the 20th of the month must be mailed by the 15th);

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise placed impression (exclusive of a postage meter machine impression) that is readily identifiable without further action as having been supplied or affixed on the date of mailing by employees of the U.S. Postal Service.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Questions/clarifications should be faxed to Mamie D. Williams, Grants Management Specialist, Division of Federal Assistance at (202) 219-8739 (this is not a toll free number). All inquiries should include the SGA/DFA 00-109 and contact name, fax and phone number. This solicitation will also be published on the Internet, on the Employment and Training Administration (ETA) Home Page at http://www.doleta.gov. Award notifications will also be published on the ETA Home Page.

SUPPLEMENTARY INFORMATION: ETA is soliciting proposals on a competitive basis for the conduct of partnership system-building activities to assist minority colleges and universities in partnership with local Workforce Investment Boards and interested employers in developing the capacity to plan and implement regional skill shortage training strategies. It is envisioned that the consortia developed under this grant will focus on serving a regional labor market area. The area to be served may be multi-jurisdictional, and could be multi-State depending on the geographic area encompassing the regional labor market area.

This announcement consists of five (5) parts:

• Part I—Background Summary: describes the authorities, the purpose and the goals of the solicitation for this demonstration program;

• Part II—Eligible Applicants and Application Process: describes the organizations authorized to apply for funds under this program, the application process and requirements for submitting an application (deadlines);

• Part III—Statement of Work: contains the Statement of Work for the two types of projects that will be funded under this demonstration initiative;

• Part IV—Monitoring, Independent Evaluation and Reporting Requirements: provides for the monitoring of the grants by DOL staff to determine the project's performance, an independent evaluation of the grants awarded for this demonstration and describes the reviews that will be conducted by DOL of each of the projects; and notes the requirements for reports to DOL and the independent evaluator; and

Part VI—Rating Criteria for Award and Selection Process: describes the selection process, including the criteria for each type of demonstration application which will be used in reviewing and evaluating all applications received by DOL as a result of this solicitation.

See Appendix “C” for definitions

Part I. Background

A. Authority

Title I, Section 171(d) of the Workforce Investment Act authorizes the use for demonstration programs of funds reserved under section 132(a)(2)(A) and establishes the administration of these funds by the Secretary for that purpose under section 173(b). In addition, the DOL FY 2000 Appropriations Act enacted November 17, 1999 authorizes dislocated worker demonstration projects that provide assistance to new entrants in the workforce and incumbent workers.

B. Purpose

The growth in the U.S. economy and the increasing global competition that has occurred throughout the 1990's has been accompanied by significant restructuring actions regarding the organization and performance of work in many industries. These actions have redefined the job performance requirements in these industries and have resulted in the dual effects of substantial numbers of worker layoffs and of reported shortages of workers skilled in other areas.

As a result, employers and employees alike are facing increasing challenges in their efforts to remain competitive. Increased competition, along with other factors such as reductions in the defense industry, relocation of facilities outside the United States, and technological advances in manufacturing processes, have resulted in significant reductions in the size of many employers' workforces. The increased adoption of technology has resulted in the realization that the skills of many workers are redundant and must be upgraded in order for them to be able to compete in the current economy and for them to be successful candidates for available jobs in the future.

Despite the generally strong economy, pockets of Americans are at risk of being left behind the rest of the country. In an effort to encourage minority colleges and universities to partner with regional workforce investment leaders to address the challenge of keeping all citizens employed and competitive and ensuring the health of the businesses on which communities depend for their economic stability, this initiative will allow for the maximum flexibility in approaches to establishing and/or enhancing partnerships that will address skill shortages now and in the future.

Part II. Eligible Applicants and the Application Process

A. Eligible Applicants

Any minority college or university referred to in the following Executive Orders designed to strengthen the capacity of such institutions to provide quality education and increase the opportunities for them to participate in and benefit from Federal programs which are capable of fulfilling the terms and conditions of this solicitation may apply:

• Executive Order Number 12876 Historically Black Colleges and Universities issued November 1, 1993

• Executive Order Number 12900 Educational Excellence for Hispanic Americans issued February 22, 1994

• Executive Order Number 13021 Tribal Colleges and Universities issued October 19, 1996

Although present DOL demonstration grantees who have received awards addressing skill shortage training issues are not directly eligible for this grant. They may participate as a member of a local area consortium addressing which addresses a skill shortages for which the local area is not already receiving demonstration grant funds.

B. Demonstrated Capacity

Partnership Building Grant awards will be made to applicants that demonstrate to the satisfaction of the Department the capacity in conjunction with the local workforce investment system(s) (under the policy direction of the local board(s) and chief elected officials) and other partners to—

1. develop a collaborative, integrated regional approach for the involvement, design and implementation of a comprehensive skill shortage action plan. The basic design of the plan shall be sufficiently robust to respond to current and projected skill shortages in the region;

2. collect information on current (real time) local employer based skill needs and the availability of workers who possess such skills in the labor market and available training resources to meet the established or developed standards of the local employer or industry;

3. design a training strategy, that may include curricula, to respond to at least one specific skills shortage that currently exists in the region;

4. test the plan on a small scale, by implementing the training strategy developed and placing those trained in related employment that meets or exceeds the outcome goals of the grant; and

5. incorporate lessons learned into the local workforce investment system(s).

Note: As discussed later in this SGA, these areas of expertise are not viewed or presented by the Department as discrete or sequential activities, but rather to delineate the expected capacity of any successful candidate's application for funding under this Solicitation.

Training Grants will be made to applicants that demonstrate to the satisfaction of the Department the capacity to engage with workforce investment partners especially employers, workforce investment boards and local One-Stop operators to provide resources for skill training in occupations that are in employer demand. Measures of this demand could include data from employer surveys, review of local employment advertisements, job order listings at the local One-Stop, and employer H-1B applications.

C. Financial Management Capability

The applicant must demonstrate to the satisfaction of the Department that it has the financial management capacity to receive federal funds in accordance with Sections 184 and 185 of the Workforce Investment Act. A consortium organized by the applicant for the purpose of responding to this SGA must designate one entity of the group as the fiscal agent to manage the funds in the event an award is granted.

D. Cooperation With DOL, Technical Assistance Contractor and the Independent Demonstration Evaluation Contractor

An applicant must also commit to sharing on-going information with DOL and its independent evaluators. An applicant may propose to use grant funds to purchase technical assistance support for the project from sources known to the applicant. The Department will make technical assistance available to the grantee during the course of the grant activities. The technical assistance contractor will visit the grantee and, in coordination with the grantee and other consortium members, assist in identifying the topic or operational areas in which technical assistance would be helpful. The grantee and its partners may then determine which areas would be most beneficial and set priorities for the use of such assistance. A maximum number of hours of technical assistance per demonstration grantee will be established at the time of the grant award. The applicant must agree to participate with the DOL technical assistance contractor in its progress assessments. As part of the acceptance of a grant award the applicant agrees to participate in conference calls during the course of the demonstration and attend and conduct workshops at conferences and other meetings to assist with further guidance throughout the workforce investment system, as necessary and appropriate. A reasonable amount of grant funds may be earmarked for this purpose.

E. Partnerships

The establishment of creative partnership configurations that include representatives of employers with skill shortages and are broadly representative of community interest is strongly encouraged. It is highly recommended that applicants submit a statement (or chart) that shows how the actual or proposed configuration represents fully the community at large and how each partner adds value to the skill shortage assessment and planning process. Other federal partners, where present and appropriate, are suggested for inclusion in any consortium, such as the U.S. Department of Commerce Manufacturing Extension Program, Department of Housing and Urban Development neighborhood and community enhancement programs and others.

F. Support From Partners

The partnerships that are being established are an important part of any application. Partnership Building grant applicants are strongly encouraged to include letters of support signed by proposed consortium members, including the local WIB chair(s). Consideration should be given to demonstrations of support from representatives of key groups who are likely to have a significant impact on the likely success of this project in the region, such as employer associations, curriculum developers, etc. Grant-funded partnership-building activities operating in the local workforce investment area should be viewed as a mechanism to improve the capacity of the area to address skill shortages and to provide the types of training opportunities that result in improved outcomes for workers and an adequate supply of trained workers for employers.

1. The Partnership Building grant application must also describe a preliminary agreement of key regional stakeholders (beyond the required parties described above) to those activities to be undertaken in the course of operation described in the application, as well as a description of other organizations or individuals who are likely to be added to the list of collaborators, and what they are expected to contribute to the initiative.

Appropriate partners to serve as part of the consortium to be formed include local Workforce Investment Boards (WIBs) or consortia of WIBs; employers; business and trade associations; labor unions; other post-secondary educational institutions including community colleges; economic development agencies, and private-sector led groups including community-and faith-based organizations addressing the needs of specific cultures, among others.

Regional consortia may be interstate in composition to accommodate adequate coverage of cohesive labor markets or regional communities, including typical commuting patterns. No minimum size for the geographic or labor market to be covered by this demonstration program has been established, and the smallest grants may cover single local workforce investment areas or portions thereof. A key goal of this initiative is to encourage regional approaches to cover the commuting area from which employers in the region draw or hire their employees.

2. Training grant applicants must partner with the local Workforce Investment Board(s), which forms the policy-making body for local workforce investment activities. Applicants are also strongly encouraged to partner with other entities which possess a sound grasp of the job marketplace in the region and which are in a position to assist in addressing the issue of skill shortage occupations. Such organizations would include private, for profit business—including small and medium-size business; business, trade, or industry associations such as local Chambers of Commerce and small business federations; and labor unions. While the Department is not prescriptive as to the partners required, beyond requiring comments from the WIB, in the past those grantees with strong private employer involvement have been particularly successful in achieving their grant's planned placement outcomes.

Pre-Application Information Session

Applicants interested in becoming a demonstration grantee are encouraged to attend a Pre-Application information session which will be held in Greensboro, North Carolina on August 10, 2000, on the campus of Bennett College. The purpose of this all-day session is to summarize the current knowledge about workforce partnerships, approaches to skill shortages and the basics of preparing an application in response to a grant solicitation. The session will review the goals and objectives of the demonstration project and explain the two phase methodology planned for funding of the demonstration grants. Attendees will learn about the technical assistance services that will be provided to grantees. This session is being offered, free of charge, to prospective applicants on a space-available basis. Attendees will, however, have to pay for their own travel and lodging. Attendance at this session is strongly encouraged but voluntary and no written summary of the meeting will be distributed. Further information about this session, the registration process, meeting agenda and availability of lodging can be found on the DOL web page www.usworkforce.org or by calling America's Workforce Network Toll-Free Telephone Number: 1-877-US-2JOBS.

Proposal Submission

Applicants must submit four (4) copies of their proposal, with original signatures. The introductory paragraph of the application must state the type of grant for which the proposal is directed—(1) a Partnership Building grant or (2) a Training grant. The proposal must consist of two (2) distinct parts, Part I and Part II.

Part I of the proposal shall contain the Standard Form (SF) 424, “Application for Federal Assistance” (Appendix #A) and Budget Form (Appendix #B). The Federal Domestic Assistance Catalog number is 17.246. Applicants shall indicate on the SF 424 the organization's IRS status, if applicable. According to the Lobbying disclosure Act of 1995, section 18, an organization described in section 501(c)(4) of the Internal Revenue Code of 1986 which engages in lobbying activities shall not be eligible for the receipt of federal funds constituting an award, grant, or loan. The individual signing the SF 424 on behalf of the applicant must represent the responsible financial and administrative entity for a grant should that application result in an award.

The budget (Appendix #B) shall include on separate pages a detailed breakout of each proposed budget line item found on the Budget Information Sheet, including detailed administrative costs. An explanation of how the budget costs were derived must be included. The Salaries line item shall be used to document the project staffing plan by providing a detailed listing of each staff position providing more than .05 FTE support to the project, by annual salary, number of months assigned to demonstration responsibilities, and FTE percentage to be charged to the grant. In addition, for the Contractual line item, list each of the planned contracts and the amount of the contract. Where a contract amount exceeds $75,000, a detailed backup budget to show how the amount of the contract was derived must be included. For each budget line item that includes funds or in-kind contributions from a source other than the grant funds, identify the source, the amount and in-kind contributions, including any restrictions that may apply to these funds.

DOL will convene a two-day grantee orientation meeting in Washington, DC. Attendance will be mandatory for all grantees for this demonstration program. We anticipate this meeting to be scheduled within 45 days of the award of grants to allow sufficient time to have all project managers present as well as other appropriate representatives of the regional consortia in attendance. Travel for three individuals (one to be a WIB representative) to attend this meeting as well as at least one other meeting to be convened during the course of the grant's period of performance should be included in the grant budget .

Part II must contain a technical proposal that demonstrates the applicant's capabilities in accordance with the Statement of Work contained in this document. The grant application is limited to 25 one-sided, double-spaced pages with 12 point font size on 8.5 x 11 inch paper with 1-inch margins which must include the following:

I. Executive summary—(1 page)

II. Application narrative technical proposal

III. Time line implementation plan and the appendix

The 25 page limitation includes all attachments.

Funding/Period of Performance

It is anticipated that up to $12 million will be available for funding these demonstrations. It is expected that 6 to 12 awards will be made, depending upon the quality of the proposals received and the amount of funds requested and awarded. The maximum grant award will be $750,000 for Partnership Building grants (maximum of nine awards) and $2 million for Training grants (maximum of three grant awards).

1. For Partnership Building grant, twenty percent of the grant amount, up to a maximum of $100,000, will be made available upon announcement of the grant award. The funds will be released in phases: (1) Phase I: Plan Development; and, (2) Phase II: Implementation—this phase will only take place pending approval of the grant plan by DOL. Further directions regarding the expected products to be provided to indicate completion of Phase I: Plan Development will be provided by DOL at the grantee orientation meeting. The remaining grant funds will be made available based upon achievement of progress benchmarks consistent with the purposes of the Workforce Investment Act and this demonstration initiative.

2. For Training grants, the full amount of the grant will be available upon announcement of the grant award.

The maximum duration of any demonstration project under this SGA will be 30 months, beginning on the date of a signed award. This includes closeout time and preparation of the draft final report. Successful grantees will be expected to commence operations within 30 days of the award date. If the applicant anticipates that a period longer than the 30 days will be required prior to commencing operations, it should be stated in the application and provide an explanation for the expected delay.

Training grants shall be required to commence the delivery of services to participants within 90 days of execution of a grant unless a significant portion of the grant implementation addresses the development of new curriculum or planning strategies. If participant enrollments are not anticipated to occur within 90 days, the circumstances should be specifically addressed in the application with the reasons provided and an alternative time frame provided.

Option To Extend

DOL may elect to exercise its option to extend either type of grant offered under this solicitation for an additional one (1) or two (2) years of operation, based on the availability of demonstration funding under the Workforce Investment Act, successful program operation, and the determination that a grantee's initial program findings could further inform the workforce development system through refinement of the present demonstration. However, in most cases, future funding is expected to be the responsibility of all stakeholders, including employers, local Boards and other members of the community.

Part III—Statement of Work

A. Background

On January 12, 1999, during his summit on 21st Century Skills for 21st Century jobs, Vice President Gore announced a major new skills shortage initiative to accomplish two purposes:

• To promote the creation of regional consortia to assess employers' need for skilled workers and workers' skills deficits, and

• To provide resources to established partnerships to provide technical skill training to incumbent and unemployed workers.

Traditionally, overall tight labor markets and even skill shortages are good for workers in that they can lead to rising wages, improved working conditions, and new opportunities for workers and new labor market entrants. However, problematic regional or sectoral industry skills shortages—those that occur when there is imbalance between worker supply and demand for a persistent period of time—can mean that particular goods and services are not provided and that the economy is operating less efficiently than it could. At the microeconomic level, i.e., for individual employers, the inability to find an adequate supply of workers even after offering higher wages and better working conditions can cause a loss of business and profits.

B. Purpose

1. Partnership building grants will support minority colleges and universities in their creation of, or membership in, regional alliances for the development and implementation of skills training strategies focused on qualifying significant numbers of minorities to work within the identified occupations at specific companies experiencing such shortages. This initiative acknowledges that communities and regions will be at different starting points in their responses to skill shortages. It is envisioned that this demonstration will be used as a catalyst to build a coalition of community-wide leaders, including those from the applicant colleges and universities, to work with specific employers to identify skill shortages and then develop processes for ameliorating or eliminating them or to strengthen an existing partnership.

2. Training grants will enable minority colleges and universities to provide specific training in occupations experiencing skill shortages which have been identified by employers to assure minority participants access to jobs in growth occupations. Successful applications may be based on the use of innovative service strategies such as the involvement of traditionally under represented groups of dislocated workers for existing training programs; the development and use of curricula geared specifically to eligible groups of dislocated workers and the needs of employers with openings in skill shortage occupations; or the development of concentrated training models for workers with a residue of skill knowledge from previous related employment, or use of curriculum and skills training interventions designed to impart knowledge, skills and abilities of industry skill standards (where available or under development).

A major challenge, then, in addressing both types of grant applications, becomes how does a local workforce investment system work with employers to identify the skills they need, develop the necessary training to respond to the need, and outreach to the workers who are being laid off soon enough to acquire the skills needed for the jobs that employers have. This means that training curricula must be flexible and easily adjusted or reconfigured to meet employer needs in a timely and responsive manner as they respond to industry technological advances, market changes, new certification requirements and other changes. This approach is distinctly different from the general academic setting, and this type of flexibility and responsiveness will require substantial commitment on the part of the institution and its leadership.

Another challenge to the community is how to encourage individuals currently in the workforce to continually upgrade their skills (life-long learning) so that if a layoff occurs the transition to a new job can be quicker and smoother—a benefit to the economic well-being of the community and the economic security of the family. This means that applicants should consider training to upgrade currently employed individuals in skills in growth occupations, especially those with career ladders that may offer some of the best opportunities for the economic stability of both the community and the family. Offering training in the evenings and on Saturdays, to permit employed individuals to improve their skills and employability may be part of this strategy.

C. Activities Conducted as Part of Demonstration Program

1. Partnership Building Grants “ There are four elements (they may run concurrently in some circumstances) in this initiative described below. Although they may be occurring concurrently, the funding related to the elements are indicated by Phase I and Phase II .

a. Phase I: Coalition Building and Planning

The first phase or element of a project will be the development and solidification of the coalition of all the partners—including the grantee and other educational institutions, community businesses (and business organizations), community-based organizations, labor organizations—into a functioning entity.

Throughout the demonstration, it is expected that there will be cooperation with and active collaboration and consultation between the grantee and the regional workforce investment system(s). This means that if the region proposed under this solicitation covers more than one local workforce investment area, the cooperation and consultation expected under this solicitation must be demonstrated to have taken place with the appropriate representatives and organizations in each local area from early in the development of application, on a continuing basis during the planning period as policies and systems are developed, and, finally but not less importantly, as the project activities are implemented. If there are regional strategies such as those authorized under WIA Section 116(c) in place currently, DOL expects those relationships will be built upon for the purpose of this initiative.

Skill shortage assessment and planning is a dynamic process—reflecting the changing nature of business demands and labor market supplies. It is therefore anticipated that the partnerships established under this rubric would be open-ended and invite additional members—especially from private industry—as emerging needs are perceived or additional sectors of industry are considered for further strategic planning.

A significant aspect of coalition building is the resources that partners can bring to the table and contribute to the partnership. DOL is not requiring a match for this competition. However, a major emphasis of this effort is to create entities and relationships which can sustain themselves once the partnership building grant has expired, and a key aspect of that sustainability will be the amount of resources—both cash and in kind—that can be generated by the participants in the partnership. Sustainability is an important consideration for the full implementation of the action plan, beyond the scope of this grant, that will be developed as part of this project and which is discussed immediately below.

When a substantial number of the workers (20 percent or more) in a targeted skill shortage occupation/industry is represented by one or more labor organizations, or where the training is for jobs where a labor organization represents a substantial number of workers engaged in similar work, the application must provide documentation of consultation on the project concept from applicable labor organizations. Further, in incumbent worker settings or those involving customized training where the union has been involved in bargaining relative to the introduction of either the technology or the addition of new skilled workers at the workplace, the application shall provide information as to any role the union played in the design and delivery of the training as well as any impact on the workers with respect to the growth or shrinkage in the number of jobs, and the selection of workers for retraining.

b. Phase I: Plan Development

This element of the project will involve activities to assess specific employer skill needs and to measure the gaps between the skills needed by industry and the skills held by dislocated, employed and incumbent workers in the region. The application must identify what is presently known regarding the skill shortage needs of the employers, the skill needs of the workforce and the training resources available to meet these needs. In many instances, this information will be preliminary and require additional investigation, research and data collection. The selection of the assessment tools necessary to add to the existing body of knowledge including data sources, survey instruments, interview protocols, etc., as well as measurement processes, is a key aspect of the development of a strategy to address skill shortages. Although final selection of the specific assessment tools may not occur until the planning phase of the grant, inclusion of some discussion of the preliminary direction the consortium plans to consider would be useful in providing a sense of the level of understanding that presently exists among consortium members.

The plan will enumerate the data sources that are used to support the statement of skill shortages. Coalitions are encouraged to research widely and be inclusive in utilization of data. Resources for general skill shortage information include data generated by the Bureau of Labor Statistics (BLS) (such as the Current Population Survey (CPS) and the Occupational Employment Statistics (OES) survey), by regional and local trade associations, and by national and regional business associations (such as the U.S. Chamber of Commerce). However, the action plan will also be required to deal with current and short term needs of local employers identified, in part, by the initiatives developed as a result of this demonstration program such as community audits, evaluated in the context of the skills of workers currently seeking reemployment or employment. Regional and local hiring patterns as provided by local industry and trade associations are also extremely valuable information in terms of any sustained skills shortage. Information regarding minority skill levels and hiring practices in the targeted skill shortage occupations will also be helpful in assessing the need for the proposed project.

The plan for the implementation phase of the grant will include an analysis of the data information developed. The analysis will contribute substantially to the formulation of a training strategy that will be agreed to and signed off by all of the partners in the coalition and signed off on by the local board(s) if it is not an active member of the coalition. The certification by the local board in the latter instance will attest that this proposed specific training strategy is not inconsistent with and does not conflict with the activities of the workforce investment system and does not constitute the development of a parallel workforce investment system. Activities that may be part of the implementation plan include the identification, design and/or adaptation of appropriate training curricula to meet the needs of skill shortage occupational areas or to reflect the employment demands of key regional businesses or industries.

c. Phase II: Implementation—Operational Testing, Assessment of Results, and Program Adjustments

This phase of the project (which may, in fact, occur concurrently with the pursuit of strategies to begin to address other skill shortages) will be to test the implementation plan and the training strategy by training eligible individuals described in this SGA in the skills identified as a result of the first two elements of this demonstration program. Thus, although planning and capacity/partnership building are the primary objectives, grantees will be required to test any new curricula they develop and, in a limited trial fashion, to implement the action plan that they formulate. The test is required to see if the strategy developed can be operationalized, and if not, what changes need to be made. This test should be conducted to work out whatever imperfections there are in the action plan, so that upon completion of this grant period, the partnership is prepared to successfully implement the action plan on a fully operational basis. Most of the training to be conducted in this test period, will be relatively of an intensive or compressed nature. It is expected that during this period and upon completion of the pilot training effort, the consortium will determine the appropriateness of initiating the application process for the WIA State Eligible Training Provider List.

Please note that the training may be provided by more than one training provider based on level of complexity, geographic convenience or other reasons. The training may be developed as part of a career ladder system, with different training providers addressing different levels of the career ladder. However, regardless of the training approach used, the participants completing training are expected to be ready for jobs in the skill shortage areas identified and analyzed in the planning phase of the demonstration. Training may include paid and unpaid internships with employers.

(1) Operational Activities. Applicants must describe:

• How and through what entity(ies) trainees will be outreached and selected;

• What entity will have operational responsibility for the training and case management activities;

• The expected outcomes (jobs) for the trainees, including wage goals, and

• Training activities like those authorized under WIA Section 134(d)(4)(D) which will be conducted as part of the operational testing under this demonstration. Because the applicant will likely not know what skill training will be provided as part of the demonstration, the description of the training activities to be funded as part of the operational test will at first need to be more conceptual in the initial application.

Grantees will receive more detailed information describing the information to be submitted in the Phase I plan in order for Phase II implementation funding to be released. In addition to other information, the grantee will be expected to submit a description of the training provider selection process; the development or modification of curricula; identification and recruitment of eligible individuals; and the types of assessments (including employer assessments) that will be used to identify candidates who would be likely to be able to succeed in the proposed skill training.

(2) Participant Services. Three categories of individuals who may be trained with any funds awarded as a result of this demonstration are eligible dislocated workers, employed and incumbent workers and new entrants.

The application will describe at what points during the operation of a demonstration the training is likely to occur. This is particularly important where applicants have already identified and gathered information on a skill shortage which they are prepared to begin addressing upon receipt of the grant. In other words, testing of a training concept or process is not limited to a period of time in any project that other “phases” or “segments” have been completed. In such cases, within a brief time after release of the Phase I planning funds, additional Phase II implementation funds will be released upon satisfying the Department's requirements to show that a consortium of appropriate community interests has been involved in the identification and planning regarding the skill shortage, adequate data exists to support the shortage, and the training plan addresses the additional information requirements.

Prior to the release of additional funds, the applicant must identify the entities responsible for the following:

• Determining eligibility;

• Selecting individuals for training or referral to employers participating in the demonstration for screening;

• Case management and other services (such as orientation to employer expectations, internships, supportive services, etc.,) that will be available to maximize the trainees' success in completing the training;

• Developing and filling job openings identified as part of the employers' participation in this demonstration;

• Addressing contingencies for trainees who encounter difficulties and for whom alternative reemployment strategies must be developed outside the demonstration;

• Developing opportunities for work-based training which may or may not be in conjunction with classroom training (if not held on site or not a type of contextual training);

• Arranging for trainees to receive credit toward some kind of credential that provides evidence of accomplishment in the event a participant later changes jobs.

Other categories of individuals may be served through processes developed under projects implemented as a result of this solicitation, using resources other than demonstration grant funds to support training expenses.

d. Internal Monitoring and Evaluation/Next Steps

(1) Project Benchmarks

A time line (Appendix to the application) must be provided of implementation and project performance benchmarks covering the period of performance of the project. The monthly schedule of planned implementation activities and start-up events (including benchmarks such as completion of lease arrangements for space, selection of an employer or community advisory group, advisory group meetings, hiring of staff, completion of data collection survey, design of customer satisfaction measures, development of a participant selection policy, initiation of customer satisfaction activities for employers and participants, etc.).

(2) Quantitative projections

A chart indicating quarterly projections of cumulative expenditures for Phase I funds should be included with the grant application. Prior to the release of Phase II funds, a number of products will be required in addition to the Implementation Plan. These include a second chart of quarterly projections of cumulative expenditures based on full funding of the demonstration project and a chart providing planned participant activity levels-enrollments, assignment to training, entered employment (or retained employment) and terminations.

It is expected that there will be ongoing reports (monthly progress reports during the early stages of the project, followed by quarterly reports as the projects as the pilot testing phase of the training is underway) by the demonstration project director to the consortia signatories. Further, it is expected that there will be sufficient opportunity to review decisions made and strategies implemented if circumstances change or initial project design proves to be unproductive or insufficiently productive to proceed further. These reports and an active interest on the part of the key leadership in the Region and the entities involved will serve as a progress review and oversight function to ensure continuous improvement of the strategy and its implementation.

As indicated in the coalition building section and reemphasized here, part of this initiative also will be to explore the resources that the newly joined partners in the regional consortia can bring to the table. DOL is not imposing a matching requirement on this procurement. One of the key questions that has emerged with regard to this partnership initiative revolves around the issue of sustainability, i.e., how will these newly emerging partnerships keep themselves going once Federal funding abates? Clearly, one of the root factors in this area will be whether the partnership has managed to establish a viable financial base, as well as the leadership to ensure that the community can build a timely response to the needs of the employers and the workers, and continually improve the systems to meet this long-term commitment. At the end of the grant period, the grantee will be expected to prepare an assessment of the activities undertaken as part of the project, in particular providing an assessment of whatever operational testing was carried out under the authority of the project. That assessment will comprise a portion of the final report for the project. This requirement is in addition to the evaluation report that will be prepared by the independent evaluator.

2. Training Grants

a. Funds provided through this demonstration may be used only to provide services of the type described at Section 134(d)(2)(A)-(K), (3)(C), (4)(D), and (e)(2)and (3) of WIA. (Use DOL/ETA's web site www.doleta.gov to view.)

Grant funds may be used to reimburse employers for extraordinary costs associated with on-the-job training of program participants, in accordance with the provisions of 20 CFR 663 subpart G. In addition to the limitations and requirements provided in WIA, prospective applicants should be aware that grant funds may not be used for the following purposes: (a) for training that an employer is in a position to provide and would have provided in the absence of the requested grant; (b) to pay salaries for program participants; and (c) for acquisition of employers' equipment. Applicants may budget limited amounts of grant funds to work with technical experts or consultants to provide advice and develop more complete project plans after a grant award, however, the level of detail in the project plan may affect the amount of funding provided.

b. Grant activities may include:

(1) Development, testing and initial application of curricula focused on intensive, short-term training to get participants into productive, high demand employment as quickly as possible;

(2) Working with employers in develop and apply worksite-based learning strategies that utilize cutting-edge technology and equipment;

(3) Development of employer-based training programs that will take advantage of opportunities created by employers' needs for workers;

(4) Development and initial application of contextual learning opportunities for participants to learn worksite theory and practices in a classroom setting while applying that learning in an on-the-job setting;

(5) Use of curriculum and skills training programs that are designed to impart learning to meet employer-specified or industry specific skill standards or certification requirements;

(6) Convening of an Employer Advisory Board to identify skills gaps of job applicants and present workers affecting the ability of the employer to offer a competitive product and develop a strategy for retraining;

(7) Innovative linkage and collaboration between employers and the local Substate Grantee and/or One-Stop/Career Center system to ensure a steady supply of high demand, skilled workers.

The above are illustrative examples and are not intended to be an exhaustive listing of possible demonstration project designs or approaches which may achieve the purpose of this solicitation. However, successful applicants must demonstrate the direct involvement by employers experiencing skill shortages in the design and operation of the project as well as provide substantive documentation about the existence of skill shortages for the industry or occupations to be targeted by the proposed project. Documentation should include a description of the employer involvement anticipated in the project. An employer advisory committee may be one means of accomplishing employer involvement.

c. Applications must address the following areas:

(1) Target Population

Describe the characteristics of the proposed target population for the project, e.g.,educational level, previous occupation, age range, likely transferrable skills, length of unemployment, and language limitations. If that population to be served represents a particular minority group, describe the size and needs of the target population in the local area as they relate to the services available either through the grant or other resources in the geographic area covered by the grant. Provide documentation or other assurance showing there are sufficient numbers of WIA eligible individuals with the target population's characteristics in the project area(s) who can be expected to succeed in the planned training.

Indicate how the number of workers to be enrolled was determined. Documentation should be provided to show that individuals with appropriate characteristics to meet the purposes of this grant are available in sufficient numbers to meet the recruitment goals of the grant recognizing that not all workers with appropriate characteristics will chose to participate.

Available Jobs

Describe the jobs that will be available and targeted for placement to project participants upon completion of training and placement services including the strategy(ies) for identifying job openings that appear appropriate to the training planned and meet the target wage at placement goals established in the proposal. Include information about the number and type of jobs, wage information and the specific set of skills, knowledge or duties (industry-sponsored standards of certifications). Provide documentation (Footnote sources) that a shortage of qualified workers exists in the local area to fill positions in the targeted occupations in the absence of the proposed project. Anecdotal data should not be used. Information from the Bureau of Labor Statistics (BLS) available through a variety of web sites including BLS, O*NET and America's Labor Market Information System (ALMIS), should be considered as a key source of documentation. In addition, State Occupational Information Coordinating Committee (SOICC) and WIA local workforce investment plan may also be cited. Other sources from the private sector such as Chamber of Commerce or employer association studies as well as university studies are also acceptable. The data must relate to local employment shortages.

Substantive linkages with specific employers who are experiencing skill shortages among their present workforce and/or the demand for additional employees with identified skill sets in documented occupational shortages must be provided. Letters from employers who have made a commitment to the demonstration project are the most appropriate form of documentation.

If some placements will be made with employers who have not been identified at the time of application, describe the job development and placement strategy to be used to assure placement of demonstration participants.

(3) Project Design

• Service Plan. Describe the services to be provided from the time of selection of participants through placement of those participants in jobs. Describe any services to be provided subsequent to job placement. The descriptions shall provide a clear understanding of the services and support that will be necessary for participants to be placed successfully in jobs and to retain those jobs, including services not funded under the grant, and ways to address participants' financial needs during periods of training. Grant-funded activities should, at a minimum, include recruitment, eligibility determination, assessment, retraining, job placement, and supportive services.

• Outreach and recruitment. Describe how eligible dislocated workers will be identified and recruited for participation in the project. Recruitment efforts may address public service communications and announcements, use of media, coordination with the One-Stop Career Center system, use of community-based organizations and other service groups. Describe the applicant's experience in reaching dislocated workers, especially the targeted population. It is highly recommended that applicants partner with the appropriate local One-Stop Career Center operators to plan and implement effective outreach and recruitment strategies.

• Eligibility determination. Describe the process to be used in determining the WIA eligibility of potential participants in the project. It is highly recommended that applicants partner with the local One-Stop Career Center operators or community-based organizations with eligibility determination experience to carry out this critical activity.

• Selection criteria. Describe the criteria and process to be used in selecting those individuals to be served by the project from among the total number of eligible persons recruited for the project. Explain how the selection criteria relate to the specific purpose of the proposed project. Identify any assessment tools that will be used as part of selection process.

• Training Services. Describe the training to be provided—classroom, experiential, on-the-job, internships, etc. Include the length (days and hours) and schedule, any perquisite courses, and customization to account for transferable skills, previous education (note: whether the training requires new and higher educational levels than previous skill training in the same industry), and particular circumstances of the target population and the skill needs of the hiring employer(s). Include information to demonstrate that any proposed training provider is qualified to deliver training that meets appropriate employment standards, and any applicable certification or licensing requirement. Past performance, qualifications of instructors, accreditation of curricula, and similar matters should be addressed if appropriate. Address the costs of proposed training and other services relative to the costs of similar training and services including courses provided by both public and private providers in the local area. If the training is be customized to account for individual differences in skills levels of participants or employer hiring needs, describe how these considerations will be taken into account in the delivery of the training. The training provided must support the information provided regarding skill shortages and demand for jobs.

• Job Placement. Describe the role of the employer linkages previously addressed in assuring the availability of jobs for participants completing training. If an Employer Advisory Committee is the primary employer linkage, the members of the committee should be listed and the type of expertise they bring to the committee noted. Provide a discussion of the role(s) of the advisory committee and its projected meeting frequency. Describe any additional job seeking skills training or assistance provided to participants completing training.

• Post placement services. Describe any post placement services to be provided and explain their value to the achievement of the project's purpose and planned outcomes.

• Supportive services. Describe those supportive services determined to be appropriate to the target population's needs. Describe policies and procedures to ensure that supportive services are provided only when they are necessary to enable an individual who is eligible for training but cannot afford to pay for such supportive services, to participate in the training program. Indicate how the participants' financial needs during the period of training will be addressed.

• Relocation. Describe the limitations and eligibility criteria for relocation assistance, if such assistance is included in the proposal.

• Participant flow. Provide a flowchart noting length of time for various activities (such as one day for assessment, etc.) to illustrate how the project will ensure access to necessary and appropriate reemployment and retraining services. Show the sequence of services and the criteria to be used to determine the appropriateness of specific services for particular participants. Note where service choice options will be available to participants. Indicate the average length of participation from eligibility determination and enrollment in the demonstration project to placement in an unsubsidized job.

• Relationship to prior experience. Discuss how the applicant's prior experience in working with the targeted population affects or influences the design of the proposed project. Note especially lessons learned or positive experiences that will be replicated.

(4) Collaboration

Describe the nature and extent of collaboration and working relationships between the applicant and other workforce development partners in the design and implementation of the proposed project. Include services to be provided through resources other than grant funds under this demonstration. Provide documentation that the collaboration described can reasonably be expected to occur (signed letters of agreement and/or the charter of a formally established advisory council are considered the strongest evidence, while letters of support are considered weaker evidence). Because a core purpose of this demonstration program involves the publicly funded workforce system, the applicant shall describe working relationships with local One-Stop Career Center partners where present.

Describe the number and types of employers to be directly involved in implementation of the demonstration through activities as participation on an advisory council, provision of input to curriculum development and design, training provider, internship supervision, participation in establishment of local skill standards, etc. Describe activities, presently in place or to be undertaken to link activities to program interventions under this grant to employers, industry, or curriculum/learning centers currently designing and developing occupational/job skill standards and certifications.

Collaboration should focus on linking employers involved in grant activities with any employer, industry, or trade and worker association that has already developed or is developing skill standards certifications. Employer linkages must be specifically addressed in the application and documentation provided of the specific role(s) the employer(s) will play in implementation of the grant provided.

D. Outcome Goals

Outcome goals for this demonstration program include, but are not limited to those stated below:

1. Partnership Building Grants

a. Increasing opportunities for minority colleges and universities to play a significant role in addressing skill shortages as a partner in the workforce investment system;

b. Increasing job opportunities for minorities through skill training in growth occupations where employers have identified skill shortages in order to access quality jobs that provide for economic self-sufficiency and long-term employability security;

c. Providing minority colleges and universities with access to timely, meaningful workforce data to be used in planning curriculum and future directions for their institutions;

d. Providing minority colleges and universities with an additional means of accessing the employer community;

e. Formation of region skills alliances that include minority colleges and universities to collaborate in implementing integrated strategies in response to employer needs;

f. Identification of ways to best respond to reported skill shortages;

g. Testing the viability of conducting on-going community audits to help avoid future skill shortages and to assist in community-or regional-wide planning for adjusting to economic change;

h. Development of a broad based consortium which will continue after the conclusion of this demonstration; and

i. Development of a process for collecting information and responding to employer needs which can be used by local workforce investment boards and chief elected officials as a basis for policy development for the local one stop system.

In addition, the Phase II—Operational Testing of the program should demonstrate connections between training provided to participants and the industries where participants are employed. Unless otherwise provided for in the grant, it is expected that 95% of the participants placed in jobs will find employment with those businesses or industries for which the training strategy is implemented. For dislocated workers, the wage replacement rate is expected to be 90% or better; for incumbent workers and new entrants, the wage rates will be consistent with requirements in the proposal, and any subsequent negotiations; and for employed workers, the wage rates will result in wages that meet the local workforce investment board's standard for achieving self-sufficiency, taking into consideration each application's description of these populations that will be trained as part of any funded project.

2. Training Grants

a. The number of participants projected: to be enrolled in services, to successfully complete services through the project, and to be placed into new jobs; a minimum of—percent entered employment rate is required;

b. Measurable effects of the services provided to project participants as indicated by gains in individuals' skills, competencies, or other outcomes;

c. Wages of participants prior to, at placement and 90 days after placement: (1) for dislocated worker participants: a minimum of—percent wage replacement rate is required for at least—percent of the participants and an average—percent wage replacement for the overall demonstration project is required; (2) for incumbent worker participants: a minimum of 100 percent wage retention is required for all participants successfully completing training and meeting the competencies/skills levels specified by the employer prior to the training.

d. For projects serving dislocated workers, as part of the targeted outcome for wage at placement, each project should benchmark at least two key wage averages for the labor market in which each project will operate. Suggested benchmarks might include: (1) The average weekly wage in the manufacturing sector, if the project is focused on manufacturing; the average weekly wage for technical and skilled trade jobs; or the average weekly wage for technical or professional workers; whichever is appropriate to the training program selected and (2) the average wage at placement for the local JTPA Title III, dislocated worker program operated June 1999 to July 2000 by the local Substate Grantee prior to transfer to the operations under the Workforce Investment Act. Provide an explanation of the particular benchmarks chosen for the project. For incumbent workers, indicate the present wage level of the workers to be trained and discuss how this wage level compares with the appropriate benchmark wage for the local labor market area.

e. For each project serving dislocated workers, at least 80 percent of the individuals placed shall be placed at a wage that meets or exceeds (1) the average benchmarked wage in the labor market area, or (2) the average wage at placement for the last program year completed (currently 1999) for the JTPA Title III dislocated worker program operated in the targeted labor market, whichever is greater. The manufacturing wage and other wage information for any labor market may be obtained from the Covered Wages and Employment Program administered by each State's Employment Service.

f. Customer satisfaction with the project services including participant at critical points in the service delivery process as well as upon placement and employer satisfaction with the skills and preparation of the participants placed with their organization; and

g. Planned average cost per placement (amount of the grant request divided by the number of program-related placements, and the cost per placement for continued placements (the amount of the grant request minus development/start-up costs divided by the number of program-related placements).

E. Staffing

Each grantee will be expected to hire a full-time project director who will begin within 30 days of the grant award to ensure that an appropriate level of effort is committed to the success of the initiative. A tentative staffing plan should be provided listing each position of more than .10 FTE with a brief description of the position, salary, fringe, and the percentage of time to be devoted to the demonstration project. The individual with primary accountability for the implementation of the demonstration should be identified, with the information provided as to where this key individual will be placed in the organizational structure and to whom he/she will report.

Part IV. Monitoring, Independent Evaluation and Reporting Requirements

As part of the agreement for the receipt of funds under this solicitation, each Grantee will be required to provide reports and documents as well as participate in evaluation and review activities described below. DOL will arrange for or provide technical assistance to grantees in establishing appropriate reporting and participant data collection methods and processes taking into account the applicant's project management plan. An effort will be made to accommodate and provide assistance to grantees to be able to complete all reporting electronically.

A. Monitoring

The Department shall be responsible for ensuring effective implementation of each competitive grant in accordance with the WIA, the Regulations at 20 CFR 652, the provisions of this announcement and the negotiated grant agreement. Applicants should assume at least one on-site project review will be conducted by DOL staff, or their designees.

This review will focus on the project's progress and performance in meeting the grant's programmatic gals and participant outcomes, complying with the targeting requirements regarding participants who are served, expenditure of grant funds on allowable activities, collaboration with employers and other organizations as required, and methods for assessment of the responsiveness and effectiveness of the services being provided. Grants may be subject to additional reviews at the discretion of the Department.

B. Independent Evaluation

DOL will contract for an independent evaluator of all phases of projects funded under this Solicitation. The purpose of the evaluation is to inform the system on all phases of the demonstration program in order that others who subsequently establish such partnerships to address skill shortages may learn from grantees' experiences. Each Grantee is required to participate in this effort.

C. Reporting

1. Progress Reports

a. Partnership Building Grants. The grantee must submit brief narrative progress reports. The reports will be submitted monthly during the Phase I of the project and during the first three months of Phase II funding and then quarterly thereafter. These reports are due 15 days following the end of each reporting period during which the project is operational (funded). The quarters end March 31, June 30, September 30 and December 31.

b. Training Grants. The grantee must submit brief narrative progress reports as well as quantitative reports based on the planned levels of activity'enrollment, training assignment, completion, job placement. The reports will be submitted monthly until 50 percent of the enrollment goal has been reached. Thereafter they may be submitted quarterly.

2. Quarterly Financial Status Report. Each grantee must submit to the Grant Officer's Technical Representative (GOTR) identified in each grant agreement within the 30 days following the end of each quarter, three copies of a quarterly Financial Status Report (SF 269) until such time as all funds have been expended or the period of availability has expired.

3. Final Project report. A draft final report which summarizes project activities and results of the demonstration shall be submitted no later than 30 days prior to the expiration date of the grant. The grantee's assessment of operational testing activities under the grant is to be included. The final report shall be submitted in 3 copies no later than 15 days before the grant expiration date. It is expected that this report includes information on challenges to the system and how those challenges were overcome as well as what worked best and what did not work as well, or did not work at all.

D. Other Documents or Reports To Be Submitted to DOL

1. Partnership Building Grant

a. It is expected that either with the application or within 90 days after the grant award, the grantee shall submit a copy of a signed consortium partnership agreement. The agreement shall include a written statement of operating principles and procedures defining roles and decision-making processes for each member of the partnership, as appropriate, as well as the overall principles and procedures of the partnership. It must include the frequency of meetings and how the review and oversight function will be conducted. A copy of the partnership agreement when modified thereafter to add additional partners should also be submitted.

b. The grantee must submit a copy of the Phase II—Implementation Plan upon completion of its development, and when modified thereafter. The Implementation Plan must be signed by the consortium partners.

Part V. Rating Criteria for Award and Selection Process

A careful evaluation of applications will be made by a technical review panel who will evaluate the applications against the criteria listed in the SGA. The panel results are advisory in nature and not binding on the Grant Officer. The Government may elect to award grants with or without discussions with the offerors. In situations without discussions, an award will be based on the offeror's signature on the Standard Form (SF) 424, which constitutes a binding offer. The Government reserves the right to make awards under this section of the solicitation to ensure geographical balance. The Grant Officer will make final award decisions based upon what is most advantageous to the Federal Government in terms of technical quality, responsiveness to this Solicitation (including goals of the Department to be accomplished by this solicitation) and other factors.

Rating Criteria for Partnership Building Grants

A. Overall Statement of Problem and Objectives (5 Points)

A concise statement clearly setting forth the problem(s) to be addressed and the objectives for accomplishing the purposes of the grant.

B. Regional Characteristics (15 Points)

1. Region Description. The applicant must provide a clear statement describing the region or area that the partnership will encompass. The description must enumerate concisely the economic conditions of the region. Socioeconomic and demographic data should also be provided to buttress the discussion. Judicious use of relevant statistical information is encouraged. The statistical information must identify the characteristics that make this area a cohesive region.

2. Employer Characteristics. A discussion of the general business environment, including some emphasis on small and medium-sized businesses, the characteristics of the major employers in the region and in particular, identification of those employers—both major and small and medium-sized—that have experienced skill shortages. The application should include a discussion of the nature of the skills shortages as presently known and the extent to which additional areas of information needed to develop a response strategy and action plan and what is the nature of those shortages.

3. Identified Data Needs. The extent to which the applicant identified the additional information regarding the employer community necessary for the development of an implementation plan.

C. Strength of the Consortium (15 Points)

1. Partners and Roles. The applicant should enumerate who the partners are in this endeavor and how they will link together-i.e., what role each will play. This may be presented in chart form. The Department is interested in a broad representation of organizations and entities that are identified as able to contribute to this effort to address reported employer skills shortages in a timely and responsive manner. The application must clearly differentiate between actual and prospective partners.

2. Private Sector Involvement. This section should articulate ties to the private sector, including ties with small-and medium-sized businesses, minority businesses, and small business federations and businesses with skill shortages. Provide in detail the role of the private sector-employers, employer associations and training providers (where appropriate) in developing the application.

3. Resources provided by partners. A discussion of what resources, actual and leveraged, each partner will bring to the partnership. Although DOL has not imposed a matching requirement upon this procurement, applicants are strongly encouraged to enumerate in substantial detail exactly what assets the partners (including employers and employer associations) propose to contribute. Assets may include, but are not limited to, office or training space, equipment, curriculum development, office support staff, meeting space, communication lines, as well as cash contributions. Identify additional sources of support to be pursued if the grant is funded.

4. Role of training institutions. The development of a training strategy to equip individuals in the Region with the skills to address the skill shortages identified is important to the outcomes of the overall demonstration. This training may be accomplished through customized training contracts or through the Individual Training Account mechanisms established by the local workforce investment systems. In selecting a training approach, applicants will need to consider the replicability of the approach for other workforce investment systems as well as the sustainability of the approach under the WIA program design developed in the local area . The rationale on which consideration of the selection process will take occur or the approach most likely to be selected should be discussed. Note: There is no particular approach that is favored by DOL. However, since the sustainability of the project will depend to some extent on the local or regional WIA program training designs, it will be important to recognize the philosophy of WIA training in developing the project's training rationale.

Role of unions should be discussed where appropriate.

5. Sustainability of the partnership and strategies. To be highly rated under this criterion, applicants must provide a detailed discussion of how the partnership is presently operating, or is envisioned to operate and how it will (could) sustain itself once the Federal grant funding has expired. Clearly, establishing a strong resource base is a significant factor in resolving that question.

D. Prospective Target Population (20 Points)

1. Characteristics of the target population. The description of the characteristics of those individuals the plan envisions serving should be clear and sufficiently detailed to determine the potential participants' service needs. If the individuals to be served will be drawn from one eligible group of participants (by industry, working status, etc.) the application should so state and provide the rationale for that group's selection. Describe the extent to which target populations will be drawn from groups under represented in the targeted industries/occupations.

2. Documentation of available participants. Documentation should be provided showing that a significant number of incumbent, employed, and dislocated workers as well as new entrants are available for participation within the project area.

E. Strategy and Service Plan (20 Points)

1. Collection and Data Analysis. The extent to which the applicant provides information about the approach to data collection and analysis, specifically citing rationale for methodology selected for data collection, responsibilities assigned regarding collection and analysis, and timeliness of data collection and analysis as it relates to development of an action plan and training strategy.

2. Strategy. The extent to which the proposed strategy approach addresses:

a. identification of the region or geographical area within the region to be served;

b. the relationship of the employers' skill shortages and employment needs, including an assessment of the current workforce's skills if the skill shortage is identified and confirmed as a result of the data collection and analysis at the time of application, or a description of those areas of reported skill shortages which the proposal plans to examine and verify and the types of data collection and analysis presently under consideration; and

c. the employment and training needs of the targeted minority population to assure that the required demonstration outcomes are achieved.

3. Geographic, neighborhood or industry concentration. Applicants are strongly encouraged to include under represented communities and populations particularly those that may reside in Empowerment Zones and Enterprise Communities (EZ/ECs) in the region, or industries, and/or areas in the community or region that have been targeted for other assistance that together with funds from this initiative may result in sufficient concentration of resources to achieve even greater goals than those established for this demonstration. This approach also allows for great opportunity to leverage other funding sources.

4. Participant Services. While this Solicitation envisions only limited operational testing of the action plan, it is expected that some participants will be served during the period of this start up grant. Applicants must describe with clarity the participant focus of projected activities (from outreach/recruitment, assessment, case management, and supportive services to job search and placement activities) that will emanate from the Phase II: Implementation Plan. It is expected that the appropriate mix of services will be tailored to the characteristics of the target population.

F. Previous Experience and Management Plan (15 Points)

1. Previous individual staff experience and experience of partner organizations. Applicants should provide a detailed discussion of specific experience in the activities contemplated by the Solicitation. The kinds and quality of experience the regional skills alliance (including the applicant and other partners) has had in economic planning including the use of economic and demographic data to identify skill shortage occupations. The level and quality of experience the applicant and other partners have in curriculum planning and development. The quality of the experience the partners bring to the demonstration regarding occupational skill training.

2. Staffing. The application should include resumes of key staff who will be expected to play a key role in the first six months of the project implementation. As noted above, it may well be that the individual staff members do not have substantive experience in partnership building activities. Therefore, it will be acceptable to demonstrate that the key staff has substantial background in economic planning and other activities (e.g., curriculum development) contemplated as part of the coalition building effort for this initiative.

3. Management Plan. The application should include a management plan for how this grant will be administered. The structure under which the project will operate must be carefully described and must identify the lines of authority for accountability for the achievement of the project goals. The required time line will indicate the key benchmark achievements identified by the applicant and the timeframe for their accomplishment. It is recommended that the time line include such benchmarks as the selection and hiring of staff, finalization of an MOU with all demonstration project partners, selection of the methodology for gathering and analyzing necessary data to determine the occupational areas of skill shortages and employer needs, the identification of training needs and appropriate curricula, initial testing of training to meet employer skill shortage needs, formation of any subcommittees to focus on particular aspects of the demonstration activity, establishment of policies for the selection of participants and employers, approval of training strategy, assessment of customer satisfaction and assurance of continuous improvement efforts, and schedule for review of progress reports. This list is not meant to be inclusive, but rather to illustrate some activities to be accomplished that could serve as benchmarks for oversight review and for negotiation with DOL in determining the appropriate time for the release of the balance of demonstration grant funds.

G. Cost Effectiveness (10 Points)

Applicants will provide a detailed cost proposal including a detailed discussion of the expected cost effectiveness of their proposal. This discussion should be couched in terms of the reasonableness of the cost in relation to the activities planned, including such factors as the geographic area covered by the proposed project, the number and range of the partners, the operational testing of the Implementation Plan (in particular, training). The agreement shall include a written statement of operating principles and procedures defining roles and decision-making processes for each member of the partnership, as appropriate, as well as the overall principles and procedures of the partnership. It must include the frequency of meetings and how the review and oversight function will be conducted. Expenses should be identified that will be incurred in terms of establishing and/or strengthening the collaborative, cooperative partnership. The cost benefits of assessing community needs and curriculum development should also be addressed. Benefits can be described both qualitatively in terms of the value of established cooperative relationships and skills attained and quantitatively in terms of wage gains and cost savings resulting from collaborative efforts and activities.

In view of the fact that there will be relatively little actual provision of services to individuals; proposals will have to discuss costs and benefits, to some extent, in terms of projected participants. This may, of necessity, involve a certain amount of hypothetical model building. However, it is anticipated that applicants would have a fully completed and tested action plan which is ready to be fully implemented upon completion of this grant, so that the model building could produce some excellent guide posts for the successful applicant to use in carrying out this grant.

Selection Criteria for Training Grants

A. Statement of Need (15 Points)

1. Region Description. The applicant must provide a clear statement describing the region or area that the partnership will encompass. The description must enumerate concisely the economic conditions of the region including those industries in growth and decline. Socioeconomic and demographic data should also be provided to buttress the discussion. Judicious use of relevant statistical information is encouraged. The statistical information must identify the characteristics that make this area a cohesive region.

2. Employer Characteristics. A discussion of the general business environment, including some emphasis on small and medium-sized businesses, the characteristics of the major employers in the region and in particular, identification of those employers—both major and small and medium-sized” that have experienced skill shortages.

3. Identification of the skill shortages. A discussion of information and data sources used in selecting the particular skill shortages selected for training must be provided. The application should include a discussion of the nature of the skills shortages as presently known and the extent to which additional areas of information needed to develop a response strategy and action plan and what is the nature of those shortages.

B. Target Population (10 Points)

1. Description of the characteristics. The applicant must provide a clear statement describing the target group to be served that is sufficiently detailed to determine the potential participants' service needs.

2. Availability of Sufficient Number of Workers. Documentation must be provided showing that a significant number of eligible dislocated workers who possess these characteristics are available for participation within the project area. An explanation of how the number of dislocated workers to be enrolled in the project was determined should be provided.

3. The recruitment plan must support the number of planned enrollments. The target population must be appropriate for the specific purpose of the proposed project.

C. Targeted Jobs (15 Points)

1. Appropriateness of Selected Occupations. The applicant should provide information indicating that the jobs identified for training are clearly available to workers who successfully complete the planned training and preparation given that:

a. the match between the documented skill shortage and the training planned;

b. the documentation provided specifying that training meets or is developed based on industry driven skill standards or certifications;

c. the substantial level of involvement of employers in making known their needs regarding requisite worker skills necessary for hiring program completers;

d. the documentation and reliability of job availability is based upon recognized, reliable and timely sources of information;

e. where appropriate, the role of workers or representatives of a labor organization representing the workers in the design and/or delivery of training in enhancing worker skills during workplace change;

2. Consultation with labor unions has occurred where appropriate and a statement is included noting the consultation or determination that such consultation was not necessary.

D. Service Delivery Strategy. (20 Points)

1. Strategy. Applicants must lay out a comprehensive strategy of providing the skills training. It must include how many types of training will be provided, by what organizations (in addition to the grantee), and demonstrate that the scope of services to be provided is consistent with the demonstration program and project purposes.

2. Scope of Services. The scope of services must be adequate to meet the needs of the target population given:

a. their characteristics and circumstances;

b. the complexity of the training and the skills to be developed relative to their characteristics and previous job experience, including discussion on how internships, hands-on training, or other practicum opportunities will be part of the curricula;

c. the jobs in which they are to be placed relative to targeted wage at placement goals;

d. the length of program participation planned prior to placement.

3. Services to be Provided. The applicant should discuss the services to be provided including at a minimum: outreach and recruitment, assessment, selection process, training, job search assistance and job placement, supportive services and follow-up services. The provision of any training or employment related tools and uniforms should be noted.

4. Innovation. Innovation in the context of service delivery can represent a wide variety of items. There can be innovation in the way training services are provided—e.g., distance learning to provide instruction to rural areas, interactive self-instructional video materials, flexible class scheduling (to accommodate employed and incumbent workers schedules), professional mentoring. Creativity in developing other aspects of service strategy (recruitment, assessment, transportation linkages, etc.) is also encouraged.

E. Cost Effectiveness (10 Points)

1. Reasonableness of Costs. Applicants should address the employment outcomes and the levels of skills to be achieved (such as attained State licensing, an industry-recognized certification, etc.) relative to the amount of training that the individual would need to receive in order to achieve those outcomes. The cost information provided regarding similar training available through other training providers is within an acceptable range or sufficient rationale is provided for the cost differences. The impact of development/start-up and innovation on costs is explained clearly in the proposal and is reasonable. Benefits can be described both qualitatively in terms of skills attained and quantitatively in terms of wage gains. Proposed costs must be reasonable in relation to the characteristics and circumstances of the target group, the services to be provided, planned outcomes, the management plan, and coordination/collaboration with other entities, including One-Stop/Career Center organizations.

2. Leveraged resources. Identification should be provided of the specific sources and amounts of other funds which will be used, in addition to funds provided through this grant, to implement the project. The application must include information on any non-WIA resources committed to this project, including employer funds, grants, and other forms of assistance, public and private. The degree to which other interested partners in the workforce development system invest resources to test the concepts put forth in the application. In-kind contributions should also be discussed. Value and level of external resources being contributed, including employer contributions, to achieve program goals will be taken into consideration in the rating process.

3. Cost effectiveness may also be demonstrated in part by cost per participant and cost per activity in relation to services provided and outcomes to be attained taking into consideration the characteristics of the planned participants.

F. Management (10 Points)

1. Project progress tracking system. The project management plan must be designed to track project performance in such a way as to assure that benchmarks are achieved in a timely manner, issues affecting performance such as employer involvement, collaboration partners commitments, etc. are quickly identified and addressed, and planned outcomes will be achieved in a cost effective manner.

2. Integrity of WIA funds. The management structure and management plan for the proposed project must ensure the integrity of the funds requested. The project work plan demonstrates the applicant's ability to effectively track project progress with respect to planned expenditures. Sufficient procedures are in place to use the information obtained by the project operator(s) to take corrective action if indicated.

3. Customer Satisfaction. The proposal must have a method of assessing customer feedback for both participants and employers involved, and establish a mechanism to take into account the results of such feedback as part of a continuous system of management and operation of the project.

G. Collaboration (15 Points)

1. Evidence of involvement of key workforce investment stakeholders. The application must include evidence of partnership with the local Workforce Investment Board(s) and the local One-Stop/Career Center operator(s) in the planning and other appropriate demonstration activities. Evidence of coordination with other programs and entities for project design or provision of services should also be provided. A written agreement or memorandum of understanding is a suggested vehicle for presenting a clear indication that the signatory stakeholders have agreed to cooperate and coordinate resources and operating responsibilities, as applicable, for the life of the proposed project.

2. Employer Involvement. The applicant should discuss and provide documentation of the role of the employer(s) in the overall design of the project, the occupations targeted for training and the identification of the skills for which training is provided, and in the placement of training completers. The project includes a reasonable method of assessing and reporting on the impact of such coordination, relative to the demonstration purpose and goals and the specific purpose and goals of the proposed project.

H. Sustainability and Replicability (5 Points)

1. Sustainability. The applicant must provide evidence that, if successful, activities supported by the demonstration grant will be continued after the expiration date of the grant, using WIA-allotted formula funds or other public or private resources.

2. Replicability. The likelihood that the approach may be applicable to a broad range of dislocated worker programs across the country. The proposal must provide evidence that the approach and training strategy(ies) used can be replicated by other workforce development partners to address skill shortages in their local area.

This solicitation is designed to promote involvement and provide support of minority colleges and universities in establishing a role in their local workforce investment areas' strategies to address skill shortages as well as in their provision of training services in response to employer-identified skill shortages. For this reason, the Federal Government intends to award grants to institutions representing each of the three primary categories of minority colleges and universities—Historically Black Colleges and Universities, Hispanic Serving Institutions, and Tribal Colleges and Universities.

Applicants are advised that discussions may be necessary in order to clarify any inconsistency or ambiguity in their applications. The final decision on awards will be based on what is most advantageous to the Federal Government as determined by the ETA Grant Officer. The Government may elect to award grant(s) without discussion with the applicant(s). The applicant's signature on the Application for Federal Assistance (Standard Form) SF-424 constitutes a binding offer.

Signed this date, July 26, 2000 at Washington, D.C.
Laura A. Cesario,
Grant Officer.

Appendix “A”—Standard Form (SF) 424

Appendix “B”—Budget Information Sheet

Appendix “C”—Definitions

BILLING CODE 4510-30-P

BILLING CODE 4510-30-C

Appendix “C”

Definitions That Will Apply to This Demonstration Program

1. Community Audit. A mechanism used by a community or region that collects “real-time data” from regional employers regarding actual and projected short term and longer term labor surpluses and needs, to enable the regional workforce development system (the entire community) to plan effectively for expected events— both positive and negative—in order to improve the functioning of the market and minimize the overall negative impact on the community.

2. Consortium. A group of entities (agencies or organizations) representing key policy makers within a Region (as identified in the application, consistent with the definition herein) which has a common interest in developing strategies and processes to respond to skill shortages within the Region. At a minimum, the consortium must include the local workforce development board chairs, or their representatives (speaking on behalf of the board), and chief elected officials, or their representatives, within the Region who will use the outcomes developed as part of this demonstration to develop or direct policy decisions for the workforce investment system.

3. Contextual Learning. A combination of compressed work and class-based learning strategies that may include integrated basic skills, literacy, and vocational training.

4. Chief Elected Officials. Those elected officials whose responsibilities are defined in JTPA and the Workforce Investment Act.

5. Customized Training. Training and or curricula that is developed for specific employers' specific hiring needs in a collaborative fashion by the employer, the education system, the local workforce investment system. It may be entirely work-based, entirely classroom or a combination of the two. The cost of the training must be leveraged from a variety of sources, including the employer, the education system and this demonstration program.

6. Displaced Homemaker. An individual who meets the definition at WIA Section 101(10).

6. Eligible Dislocated Worker. An individual who meets the definition at WIA Section 101(9)(A), (B), and (D). See also “employed dislocated worker.”

7. Employed Dislocated Worker. An individual who meets the definition of an eligible dislocated worker at WIA Sec. 101(9) and who has not yet been laid off or has been dislocated and has accepted a temporary, income-maintenance job at a wage of less than 90% of layoff wage; and is determined by the project operator or the designated one-stop operator to require training to obtain or retain employment that permits the individual to achieve self-sufficiency in accordance with the criteria set by the State or local workforce investment board under WIA.

8. H1-B Visa Skill Shortages. Those skill shortages identified by the Immigration and Naturalization Service (I&NS) for which employers are permitted to apply to bring into the U.S. foreign workers to meet demands when the supply of workers with such skills in the local labor market are insufficient. A list of the occupations certified by the Department of Labor under the H1-B program for non-immigrant visas may be found on page 44549 of the Federal Register, Volume 64, Number 157, Monday, August 16, 1999.

9. Incumbent Worker. An individual who is currently employed at small or medium-sized businesses (see definition) whose job skills do not meet the current or future needs of the company if it is to remain competitive by keeping workers employed, averting layoffs, and upgrading workers' skills. As a result, the company has identified such workers as being at risk of being laid off in the future (5 year projection). This definition is for purposes of this grant solicitation.

10. Independent Evaluation. A process and outcome evaluation conducted by a contractor hired by DOL. The evaluation will be designed to identify the lessons learned and the variety of effective models developed in order to maximize the value of systems tested and inform the workforce investment system.

11. Local Workforce Investment Areas. Those geographic areas designated by the Governor of each State under the Workforce Investment Act (WIA) of 1998 (or service delivery areas under JTPA).

12. Local Workforce Investment Boards. Boards are authorized under Section 117 of the Workforce Investment Act (WIA) of 1998. More than half of the membership of each local board must be key officials from the private employers.

13. Memorandum of Understanding or Cooperative Agreement. A living and growing agreement that is a critical element of the establishment and on-going development of a regional skills alliance process. The initial agreement to be submitted with an application, at a minimum, articulate the outcomes and action plant to occur if a project is funded. It must include the affected local workforce development board chairs and the chief elected officials in the Region for which application is made must be parties to the agreement. This agreement shall include the role each organization will take in implementing the demonstration strategy as well as any monetary and in-kind contribution by each signatory organization.

14. New Entrants. Eligible individuals in this category include-young adults aged 18 years and over; welfare recipients; disabled individuals and others who have limited work histories but for whom the type of training envisioned under this demonstration will lead to self-sufficiency as defined by the State or local workforce investment board.

15. Private Industry Council (PIC). The policy making local entity as described in JTPA Sections 102 and 103.

16. Performance Outcomes. A determination of how many participants enter jobs for which the training was conducted and the wage received as a result of the training, both in terms of prior wage for incumbent workers and dislocated workers, and in relationship to self-sufficiency for new entrants to the workforce. Other performance factors will be negotiated for each grant depending upon the design of the demonstration project and shall include factors for planning and implementation of strategies to respond to area employers' skill shortages and consistent with the goals articulated in this SGA.

17. Region. An area which exhibits a commonality of economic interest. Thus, a region may comprise several labor market areas, one large labor market, one labor market area joined together with several of adjacent rural districts, special purpose districts, or a few contiguous PICs or local boards. If the region involves multiple economic or political jurisdictions, it is essential that they be contiguous to one another. A region may be either intrastate or interstate. Although the rating criteria will provide more detail, it is the applicant's responsibility to demonstrate the regional nature of the area which that application covers. Also, a region may be coterminous with a single PIC or local board.

18. Regional Planning. A process described in WIA Section 116(c).

19. Self-Sufficiency for:

Dislocated workers. The wage of the job for which the individual is trained will pay at least 95% of the worker's layoff wage within one year of entering employment as a result of the training received.

New entrants. The wage of the job for which the individual is trained will at a minimum exceed the lower living standard for the family size as published by the DOL.

20. Skills Shortage. Those specific vocational skills that employers have identified as lacking in sufficient numbers to meet their needs. A labor shortage occurs when the demand for workers possessing a particular skill is greater than the supply of workers who are qualified, available and willing to perform those skills. Problematic skills shortages occur when there is an imbalance between worker supply and demons for a significant amount of time for which the labor market does not, or is unable, adjust in a timely manner.

21. Small and Medium-sized Business. A business with 500 or fewer full-time employees.

22. Unified Plan. A State plan authorized under WIA Section 501(b), containing coordination principles strongly encouraged by the Department.

[FR Doc. 00-19297 Filed 7-31-00; 8:45 am]

BILLING CODE 4510-30-P